DEPARTMENT OF ENERGY

Federal Energy Regulatory Commission

Combined Notice of Filings

Take notice that the Commission has received the following Natural Gas Pipeline Rate and Refund Report filings:

Filings Instituting Proceedings

Docket Numbers: RP22-409-000.

Applicants: Houston Pipe Line Company LP, Enable Oklahoma Intrastate Transmission, LLC, Southwest Gas Storage Company.

Description: Compliance filing: Houston Pipe Line Company LP submits tariff filing per 154.203: Notice of Change in Circumstance to be effective N/A.

Filed Date: 12/13/21.

Accession Number: 20211213-5096.

Comment Date: 5 p.m. ET 12/27/21.

Docket Numbers: RP22-410-000.

Applicants: Alliance Pipeline L.P.

Description: § 4(d) Rate Filing: Action Alert and OFO Provisions Filing to be effective 1/13/2022.

Filed Date: 12/13/21.

Accession Number: 20211213-5165.

Comment Date: 5 p.m. ET 12/27/21.

Docket Numbers: RP22-411-000.

Applicants: Enable Gas Transmission, LLC.

Description: § 4(d) Rate Filing: Filing to Remove Tariff Language Related to Bistineau Storage Field to be effective 1/17/2022.

Filed Date: 12/13/21.

Accession Number: 20211213-5168.

Comment Date: 5 p.m. ET 12/27/21.

Docket Numbers: RP22-412-000.

Applicants: Southern Natural Gas Company, L.L.C.

Description: Compliance filing: Abandon Multiple X-Rate Schedules Compliance Filing to be effective 2/1/2022.

Filed Date: 12/14/21.

Accession Number: 20211214-5038.

Comment Date: 5 p.m. ET 12/27/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2021.
Debbie-Anne A. Reese,
Deputy Secretary.

[FR Doc. 2021-27453 Filed 12-17-21; 8:45 am]

BILLING CODE 6717-01-P